DEPARTMENT OF TRANSPORTATION

Federal Highway Administration

Environmental Impact Statement: Tucker County, West Virginia

AGENCY: Federal Highway Administration (FHWA), DOT

ACTION: Notice of Intent.

SUMMARY: The FHWA is issuing this notice to advise the public that a Supplemental Environmental Impact Statement (SEIS) will be prepared for the Blackwater Avoidance area of the Thomas-to-Davis portion of the Parsons-to-Davis project of the proposed Appalachian Corridor H highway in Tucker County, West Virginia.

FOR FURTHER INFORMATION CONTACT: Henry E. Compton, Division Environmental Coordinator, Federal Highway Administration, West Virginia Division, Geary Plaza, Suite 200, 700 Washington Street East, Charleston, West Virginia, 25301, Telephone: (304) 347-5268.

SUPPLEMENTARY INFORMATION: In accordance with a court approved settlement agreement, the FHWA in cooperation with the West Virginia Department of Transportation (WVDOT) will prepare an SEIS to examine one or more potential alignment shifts for the Thomas-to-Davis section of Parsons-to-Davis project of the proposed Appalachian Corridor H highway in Tucker County, West Virginia. A Record of Decision (ROD) for the entire Appalachian Corridor H highhway (FHWA-WV-EIS-92-01-F) from Aggregates to the WV/VA state line, a distance of approximately 100 miles, was approved on August 2, 1996. The proposed Parsons-to-Davis project will provide a divided four-lane, partial control of access highway on new location for a distance of approximately 9 miles. The purpose of this project is to provide safe and efficient travel between population centers in Tucker County (Parsons Area and Thomas/Davis Area), while also contributing to the completion of Corridor H in West Virginia.

Alternates under consideration in the SEIS will be: (1) The no-action alternative, (2) the preferred alternative that was approved in the 1996 ROD, and (2) one or more alternatives that avoid the Blackwater Area identified in Exhibit 4 of the court approved Corridor H Settlement Agreement. Based on preliminary studies, it is expected that the avoidance alternatives considered in the SEIS will include one or more alignments that would shift the project to the north, resulting in additional connections to US 219, WV Route 32, and WV Route 93 in the vicinity of the towns of Thomas and Davis. However, final decisions on the scope of the SEIS will be made only after an opportunity for comment by interested agencies and the public during the scoping process, which will occur in May 2000.

Letters describing the proposed action and soliciting comments will be sent to appropriate federal, state, and local agencies, and to private organizations and citizens who have expressed or are known to have an interest in this proposal.

To ensure the full range of issues related to this proposed action are addressed and all significant issues identified, comments and suggestions are invited from all interested parties. Comments or questions concerning this proposed action should be directed to the FHWA at the address provided above.

(Catalog of Federal Domestic Assistance Program Number 20.205, Highway Research Planning and Construction. The regulations implementing Executive Order 12372 regarding intergovernmental consultation on Federal programs and activities apply to this program)

Issued on: May 2, 2000.
Henry E. Compton,
Environmental Coordinator, Charleston, West Virginia.

[FR Doc. 00-11860 Filed 5-10-00; 8:45 am]

BILLING CODE 4910-22-M